DEPARTMENT OF COMMERCE

[Docket No. 101207607-0607-02]

Privacy Act System of Records

AGENCY: U.S. Census Bureau, Department of Commerce.

ACTION: Notice of amended Privacy Act System of Records: COMMERCE/CENSUS-8, Statistical Administrative Records System.

SUMMARY: The Department of Commerce publishes this notice to announce the effective date of a Privacy Act System of Records notice entitled COMMERCE/CENSUS-8, Statistical Administrative Records System.

DATES: The system of records becomes effective on December 15, 2010.

ADDRESSES: For a copy of the system of records please mail requests to: Chief Privacy Officer, Privacy Office, Room HQ-8H168, U.S. Census Bureau, Washington, DC 20233-3700.

FOR FURTHER INFORMATION CONTACT: Chief Privacy Officer, Privacy Office, Room HQ-8H168, U.S. Census Bureau, Washington, DC 20233-3700, 301-763-6560.

SUPPLEMENTARY INFORMATION: On October 27, 2010, the Department of Commerce published and requested comments on a proposed Privacy Act System of Records notice entitled COMMERCE/CENSUS-8, Statistical Administrative Records System (75 FR 66061). No comments were received in response to the request for comments. By this notice, the Department is adopting the proposed system as final without changes effective December 15, 2010.

Dated: December 9, 2010.
Brenda Dolan,
U.S. Department of Commerce, Freedom of Information/Privacy Act Officer.

[FR Doc. 2010-31422 Filed 12-14-10; 8:45 am]

BILLING CODE P